DEPARTMENT OF COMMERCE

International Trade Administration

[Docket No. 251211-0089]

Notice of the Opening of the Inclusions Window for the Section 232 Automobile Parts Tariff Inclusions Process

AGENCY: International Trade Administration, Office of Transportation and Machinery, U.S. Department of Commerce.

ACTION: Notice.

SUMMARY: The Bureau of Industry and Security (BIS), working with the International Trade Administration (ITA) have established a process for including additional automobile parts within the scope of the duties authorized by the President under section 232 of the Trade Expansion Act of 1962. This notice opens the January 2026 inclusions window for submissions.

DATES: The inclusions window will open on January 1, 2026, and close at 11:59 p.m. ET on January 14, 2026.

ADDRESSES: Submissions for inclusions requests must be emailed to the automobile parts inclusion inbox at AutoInclusions@trade.gov.

FOR FURTHER INFORMATION CONTACT: For questions regarding this notice or the inclusions process overall, email AutoInclusions@trade.gov regarding automobile parts inclusion requests.

SUPPLEMENTARY INFORMATION: On March 26, 2025, the President issued Proclamation 10908, “Adjusting Imports of Automobiles and Automobile Parts Into the United States” (Automobile Proclamation). This proclamation imposed specified rates of duty on imports of automobiles and certain automobile parts.

The Automobile Proclamation also required the Secretary of Commerce to establish a process for including additional automobile parts within the scope of the duties established in the Automobile Proclamation. An interim final rule (IFR) published on September 17, 2025 (90 FR 44767) established a process for including additional automobile parts within the scope of the duties authorized by the President under section 232 of the Trade Expansion Act of 1962, as amended (Section 232). This IFR established recurring two-week windows each year for submissions of automobile parts in January, April, July, and October, beginning on the first of those months.

This notice announces the opening of the January 2026 inclusions window for submissions for automobile parts for two weeks starting on January 1, 2026, and closing at 11:59 p.m. ET on January 14, 2026. Requests must be submitted to the automobile parts inclusion inbox at AutoInclusions@trade.gov. Following the close of the submission window, accepted inclusion requests will be posted for a two-week public comment period on Docket ID ITA-2025-0039 on Regulations.gov. See the prior published IFR for details on the inclusions submission process.

Prior to submission, please ensure that automobile parts being submitted for consideration are not already within the scope of the duties imposed by the Automobile Proclamation. Furthermore, if a decision has not been made on a previously submitted inclusions request, please do not submit an additional request with the same automobile parts unless new pertinent information is available for consideration.

Dated: December 8, 2025.
Lev Krutz,
Deputy Assistant Secretary for Manufacturing. United States Department of Commerce.

[FR Doc. 2025-22845 Filed 12-15-25; 8:45 am]

BILLING CODE 3510-DR-P